FEDERAL COMMUNICATIONS COMMISSION

Radio Broadcasting Services; AM or FM Proposals To Change The Community of License

AGENCY: Federal Communications Commission.

ACTION: Notice.

DATES: The agency must receive comments on or before July 10, 2018.

ADDRESSES: Federal Communications Commission, 445 Twelfth Street SW, Washington, DC 20554.

FOR FURTHER INFORMATION CONTACT: Rolanda F. Smith, 202-418-2054.

SUPPLEMENTARY INFORMATION: The following applicants filed AM or FM proposals to change the community of license: NEW BEGINNINGS MOVEMENT, INC., WJCF-FM, Fac. ID No. 91193, Channel 201B, From MORRISTOWN, IN, To GREENFIELD, IN, BPED-20180327ACM; EDUCATIONAL MEDIA FOUNDATION, KMLV, Fac. ID No. 85846, Channel 201C0, From RALSTON, NE, To MALVERN, IA, BPED-20180312ABQ; EDUCATIONAL MEDIA FOUNDATION, KUAO, Fac. ID No. 71394, Channel 201C2, From OGDEN, UT, To TREMONTON, UT, BPED-20180330AAH; FAMILY LIFE MINISTRIES, INC., WCIH, Fac. ID No. 20641, Channel 212B1, From ELMIRA, NY, To RIDGEBURY, PA, BPED-20180413AAQ; CALVARY CHAPEL OF TWIN FALLS, INC., KBJF, Fac. ID No. 174640, Channel 213C, From NEPHI, UT, To SARATOGA SPRINGS, UT, BPED-20180308AAB; SARKES TARZIAN, INC., WTTS, Fac. ID No. 59141, Channel 222B, From BLOOMINGTON, IN, To TRAFALGAR, IN, BPH-20180320ABU; THE UNIVERSITY OF WYOMING, KTWY, Fac. ID No. 166052, Channel 248C3, From SHOSHONI, WY, To SHERIDAN, WY, BPED-20180413AAZ; THE UNIVERSITY OF WYOMING, KWWY, Fac. ID No. 166053, Channel 267C3, From SHOSHONI, WY, To CASPER, WY, BPED-20180413ABA; BRYAN KING, KAJZ, Fac. ID No. 87996, Channel 293C3, From LLANO, TX, To GRANITE SHOALS, TX, BPH-20180302AAX; EDUCATIONAL MEDIA FOUNDATION, KIMI, Fac. ID No. 189501, Channel 299A, From MALVERN, IA, To RALSTON, NE, BPED-20180312ABP; BLOUNT BROADCASTING CORPORATION, WKVL, Fac. ID No. 66618, 850kHz, From KNOXVILLE, TN, To MARYVILLE, TN, BP-20180208AAL; 920 AM, LLC, WGNU, Fac. ID No. 49042, 920kHz, From GRANITE CITY, IL, To ST. LOUIS, MO, BP-20180226AAO; and ETERNITY MEDIA GROUP, WKXG, Fac. ID No. 65008, 1550kHz, From GREENWOOD, MS, To BOLTON, MS, BP-20180319AAL.

The full text of these applications is available for inspection and copying during normal business hours in the Commission's Reference Center, 445 12th Street SW, Washington, DC 20554 or electronically via the Media Bureau's Consolidated Data Base System, http://licensing.fcc.gov/prod/cdbs/pubacc/prod/cdbs_pa.htm.

Federal Communications Commission.
Nazifa Sawez,
Assistant Chief, Audio Division, Media Bureau.

[FR Doc. 2018-10035 Filed 5-10-18; 8:45 am]

BILLING CODE 6712-01-P